DEPARTMENT OF ENERGY

Federal Energy Regulatory Commission

[Project No. 13356-000]

Slatersville Hydro, LLC; Notice of Application Tendered for Filing With the Commission, Soliciting Additional Study Requests, and Establishing Procedural Schedule for Licensing and Deadline for Submission of Final Amendments

January 27, 2009.

Take notice that the following hydroelectric application has been filed with the Commission and is available for public inspection.

a. Type of Application: Exemption From Licensing.

b. Project No.: P-13356-000.

c. Date Filed: January 15, 2009.

d. Applicant: Slatersville Hydro, LLC.

e. Name of Project: Slatersville Hydroelectric Project.

f. Location: On the Branch River in Providence County, Rhode Island. The project would not occupy any land of the United States.

g. Filed Pursuant to: Public Utilities Regulatory Policies Act of 1978, 16 U.S.C. 2705, 2708.

h. Applicant Contact: Michael P. DeFrancesco, 87 Hall Road, Exeter, RI 02822, (401) 742-1968.

i. FERC Contact: Tom Dean, (202) 502-6041.

j. Cooperating Agencies: We are asking Federal, state, and local agencies and Indian tribes with jurisdiction and/or special expertise with respect to environmental issues to cooperate with us in the preparation of the environmental document. Agencies who would like to request cooperating status should follow the instructions for filing comments described in item l below.

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: March 16, 2009.

All documents (original and eight copies) should be filed with: Kimberly D. Bose, Secretary, Federal Energy Regulatory Commission, 888 First Street, NE., Washington, DC 20426.

Additional study requests and requests for cooperating agency status may be filed electronically via the internet in lieu of paper. The Commission strongly encourages electronic filings. See 18 CFR 385.2001(a)(1)(iii) and the instructions on the Commission's Web site at (http://www.ferc.gov) under the “eFiling” link.

m. This application is not ready for environmental analysis at this time.

n. Description of Project: The Slatersville Project would consist of: (1) The existing upper 13-foot-high RI Dam No. 43 consisting of: (a) An existing 175-foot-long spillway; and (b) a westerly abutment equipped with two 3.5-foot-wide, 5.7-foot-high sluice gates impounding; (2) an 172-reservoir with a normal water surface elevation of 250.7 feet National Geodetic Vertical Datum 1988 (NGVD) leading to; (3) two new 150-foot-long, 4.5-foot-diameter penstocks connecting; (4) a new powerhouse containing two generating units with a total installed capacity of 360 kilowatts; (5) a new 25-foot-long tailrace discharging water back into the Branch River; and (6) appurtenant facilities. The project would have an average annual generation of about 1,250 megawatt-hours.

In addition to a new powerhouse, penstocks, and tailrace, project facilities would consist of: (1) New 1.5-foot-high flashboards on top of RI Dam No. 43; and (2) a new 0.5-mile-long, 13.8 kilovolt transmission line.

Project facilities may also include: (1) The existing lower 6-foot-high RI Dam No. 45 with a 105-foot-long spillway impounding; (2) the existing 0.3-acre reservoir with a normal water surface elevation of 231.9 feet NGVD located in the bypassed reach between RI Dam No. 43 and the new tailrace.

o. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via email of new filings and issuances related to this or other pending projects. For assistance, contact FERC Online Support.

p. With this notice, we are initiating consultation with the Rhode Island State Historic Preservation Officer (SHPO), as required by section 106, National Historic Preservation Act, and the regulations of the Advisory Council on Historic Preservation, 36 CFR 800.4.

q. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in an EA. Staff intends to give at least 30 days for entities to comment on the EA, and will take into consideration all comments received on the EA before final action is taken on the license application.

Issue Acceptance Letter or Deficiency Letter—April 2009.

Issue Scoping Document—May 2009.

Notice of application is ready for environmental analysis—June 2009.

Notice of the availability of the EA—November 2009.

Final amendments to the application must be filed with the Commission no later than 30 days from the issuance date of the notice of ready for environmental analysis.

Kimberly D. Bose,
Secretary.

[FR Doc. E9-2217 Filed 2-2-09; 8:45 am]

BILLING CODE 6717-01-P